Title 3—

The President

Proclamation 7580 of July 26, 2002

Parents' Day, 2002

By the President of the United States of America

A Proclamation

Parenthood is a profound blessing, bringing with it responsibilities that are both challenging and rewarding. The care, dedication, and attention of parents are critical to their children's success. As they teach, guide, and nurture, parents help their children to realize their potential and achieve their dreams. Parents also play a critical role in shaping their children's character by sharing important life-lessons and values and showing them how to love and care for others.

As we face the challenges of a new era, families remain the foundation of our civil society; and parents are the corner stone of strong families. This important responsibility often presents difficult problems and trying circumstances as parents balance competing demands such as making a living, raising their children, and participating in their communities.

Our Nation has made great progress in recognizing the importance of effective parenting, but there is still much to do. My Administration is committed to promoting a healthier society by helping parents build stronger families. Many studies have shown that children do better in two-parent households where the parents are married; and as part of our plan to promote the well-being of children, I have committed significant resources to programs that encourage healthy and stable marriages. While no law can ensure that people love one another, we can support initiatives that help couples learn how to build successful marriages and be good parents.

My Administration supports community-based efforts that help delinquent fathers improve their lives so they can become effective parents. With job training, employment, counseling, and career advancement education, we hope to make it easier for more fathers to have positive relationships with their sons and daughters. We have also taken important steps to empower and inform parents through the No Child Left Behind Act, ensuring that they will be vital partners in their children's education. Further, every child in America deserves to live in a safe, stable, and loving family; my Administration is committed to increasing public awareness about the importance of adoption and to encouraging Americans to consider adopting children. By pursuing these significant measures, we increase compassion in our society, and we make America a better place for all.

The nurturing and development of children require widespread investment, focus, and commitment. While Government plays an important role in this process, citizens, schools, and civic institutions must also assist parents by reaching out to help meet the needs of young people in their communities. By working together to provide for our children, we will show them the way to a brighter future.

NOW, THEREFORE, I, GEORGE W. BUSH, President of the United States of America, by virtue of the authority vested in me by the Constitution and laws of the United States and consistent with Public Law 103-362, as amended, do hereby proclaim Sunday, July 28, 2002, as Parents' Day. I encourage all Americans to join me in honoring the millions of mothers and fathers, biological and adoptive, foster parents, and stepparents, whose selfless love and determined efforts influence lives for the good of their children and our Nation. I also urge all Americans to express their love, respect, and appreciation to our parents, and I call upon all citizens to observe this day with appropriate programs, ceremonies, and activities.

IN WITNESS WHEREOF, I have hereunto set my hand this twenty-sixth day of July, in the year of our Lord two thousand two, and of the Independence of the United States of America the two hundred and twenty-seventh.

B

[FR Doc. 02-19484

Filed 7-30-02; 8:45 am]

Billing code 3195-01-P